DEPARTMENT OF THE INTERIOR

Bureau of Land Management

DEPARTMENT OF ENERGY

Western Area Power Administration

[LLWY920000.L51010000.ER0000-LVRWK09K1160; WYW177893; COC72929; UTU87238; N86732]

Notice of Availability of the Draft Environmental Impact Statement for the TransWest Express 600-kV Direct Current Transmission Project in Wyoming, Colorado, Utah, and Nevada, and Prospective Draft Land Use Plan Amendments

AGENCIES: Bureau of Land Management, Department of the Interior; and Western Area Power Administration, Department of Energy.

ACTION: Notice of Availability.

SUMMARY: The Bureau of Land Management (BLM) and Western Area Power Administration (Western) announce the availability of the TransWest Express Transmission Project Draft Environmental Impact Statement (DEIS) and draft Land Use Plan Amendments. The DEIS analyzes the consequences of granting a right-of-way (ROW) to TransWest Express, LLC (TransWest) to construct and operate an extra-high voltage (EHV) direct current (DC) transmission system (proposed Project). The Project would provide the transmission infrastructure and capacity to deliver approximately 3,000 megawatts of electric power from existing and future renewable and other energy sources in south-central Wyoming to a substation hub in southern Nevada. The Project would consist of an approximately 725-mile-long 600-kilovolt (kV), DC transmission line and two terminals, each containing an alternating current (AC)/DC converter station. The northern AC/DC converter station would be located near Sinclair, Wyoming, and the southern AC/DC converter station would be located near a group of substations in the Eldorado Valley called Marketplace Hub, approximately 25 miles south of Las Vegas, Nevada. A ground electrode system (required for transmission line emergency shutdown) would be installed within 100 miles of each terminal. The Project would retain an option for future interconnection with the Intermountain Power Project (IPP) transmission system in Millard County, Utah.

The BLM, through consultation with other Federal, State, and local cooperating agencies, has included an Agency Preferred Alternative (APA) transmission route in the DEIS. The rationale for selecting the location of this alternative is described in the Supplementary Information section of this Notice of Availability (NOA). The following discussions of Project segment lengths across various land ownerships and jurisdictions are specific to the 760-mile-long APA.

The requested ROW width would generally be 250 feet. As a general planning goal, the APA has been located parallel to existing transmission lines and other utilities, within the West-wide energy corridors designated pursuant to Section 368 of the Energy Policy Act of 2005 and other federally designated utility corridors, unless precluded by resource or routing constraints or technical infeasibility. Approximately 230 miles (30 percent) of the APA is located within or adjacent to designated federal utility corridors.

The APA is located in proximity and parallel to other utilities (transmission lines, pipelines, roads) over a distance of 447 miles (57 percent) of the total length. The lengths of the APA segments by Federal jurisdiction are:

• Wyoming—BLM Rawlins Field Office (78 miles).

• Colorado—BLM Little Snake, White River Field Offices (71 miles).

• Utah—BLM Vernal, Price, Fillmore, Richfield, Cedar City Field Offices (212 miles); Bureau of Indian Affairs/Tribal (3 miles); and U.S. Forest Service (USFS) Uinta, Manti-La-Sal, Fishlake, and Ashley National Forests (18 miles).

• Nevada—BLM Caliente, Las Vegas Field Offices (129 miles) and Bureau of Reclamation (BOR) (6 miles).

• The APA transmission route would cross 58 miles of State land, and 127 miles of private land.

In Wyoming, the APA crosses 78 miles of Federal, 1 mile of State and 30 miles of private land. In Colorado, the APA crosses 71 miles of Federal, 7 miles of State and 12 miles of private land. In Utah the APA crosses 230 miles of Federal, 50 miles of State, 3 miles of Tribal and 123 miles of private land. In Nevada, the APA crosses 135 miles of Federal, 14 miles of Tribal and 7 miles of private land.

Transmission line alternatives were developed as part of this EIS analysis. Additional Federal land jurisdictions crossed by Project alternatives include: Colorado—BLM Grand Junction Field Office; Utah—BLM Moab, Richfield, and St. George Field Offices and Fishlake, Ashley and Dixie National Forests; Nevada—National Park Service (NPS) and the Department of Energy (DOE). These alternatives cross State and private lands in addition to the Federal lands.

The DEIS includes draft amendments of USFS Land and Resource Management Plans (Forest Plans) and BLM land use plans (Management Framework Plans and Resource Management Plans) that would be needed for the Project under each of the alternatives. The BLM and USFS draft amendments are described in the Supplementary Information section of this NOA. Additionally, based on information learned through the EIS process, the USFS may determine that more plan amendments are required to fulfill the intent of standards and guidelines in the areas affected. Depending on the alternative selected in the Record of Decision (ROD), the NPS may consider applications for segments of the Project within Lake Mead National Recreation Area and across the Deer Lodge Road that provides access to Dinosaur National Monument.

By this notice, and the Notice of Intent to Prepare an EIS, published January 4, 2011 (see below), the BLM is providing notice to the public of potential amendments to land use plans and Forest Plans, as required by 43 Code of Federal Regulations (CFR) 1610.2(c) and 36 CFR 219.8. The impacts of these potential amendments are analyzed in the DEIS together with the impacts of the various Project alternatives. Your input is important and will be considered in the environmental analysis process. All comment submissions must include the commenter's name and street address. Comments including the names and addresses of the commenter will be available for public inspection at the locations listed below during normal business hours (7:45 a.m. to 4:30 p.m.), Monday through Friday, except Federal holidays. While you may ask us in your comment to withhold from public review your personal identifying information, we cannot guarantee that we will be able to do so.

DATES: The DEIS is now available for public review. The BLM and Western request that comments be structured so that they are substantive and contain sufficient detail to allow the agencies to address them in the Final EIS. To be considered in the Final EIS, written comments on the Draft EIS must be received within 90 days after Environmental Protection Agency's (EPA) publication in the Federal Register of a Notice of Availability of this Draft EIS. The BLM and Western will consider timely filed comments and respond to them in the Final EIS.

All public meetings or other opportunities for public involvement related to the TransWest Express Transmission Project will be announced to the public by the BLM at least 15 days in advance through public notices, media news releases, Web site announcements, or mailings.

ADDRESSES: Copies of the DEIS have been sent to affected Federal, State, and local governments, public libraries in the Project area, and to interested parties that previously requested a copy. The DEIS and supporting documents will be available electronically on the following BLM Web site: http://www.blm.gov/wy/st/en/info/NEPA/hdd/transwest.html. A list of the locations where copies of the DEIS is available for public inspection can be found in the SUPPLEMENTARY INFORMATION section below. A limited number of paper and cd copies of the document will be available as supplies last. To request a copy, contact Sharon Knowlton, Project Manager, BLM Wyoming State Office, P.O. Box 20678, Cheyenne, Wyoming 82003.

Written comments may be submitted by the following methods:

• Email: TransWest_WYMail@blm.gov.

• Mail: Bureau of Land Management, TransWest Express Project, P.O. Box 20678, Cheyenne, Wyoming 82003.

• Courier or Hand Delivery: Bureau of Land Management, TransWest Express Project, 5353 Yellowstone Road, Cheyenne, Wyoming 82009.

FOR FURTHER INFORMATION CONTACT: Sharon Knowlton, Project Manager, Bureau of Land Management, Wyoming State Office, P.O. Box 20678, Cheyenne, Wyoming 82003, or by telephone at (307) 775-6124, or by FAX at (307) 775-6203. Any persons wishing to be added to a mailing list of interested parties may write or call the Project Manager, at this address or phone number. Persons who use telecommunications devices for the deaf may call the Federal Information Relay Service (FIRS) at 1-800-877-8339 to contact Ms. Knowlton during normal business hours.

The FIRS is available 24 hours a day, 7 days a week, to leave a message or question with the above individual. You will receive a reply during normal business hours.

For information about Western's involvement, contact Steve Blazek, Western National Environmental Policy Act (NEPA) Document Manager: telephone 702-962-7265; email: sblazek@wapa.gov; address: Western Area Power Administration, P.O. Box 281213, Lakewood, Colorado 80228-8213.

For general information on the DOE's NEPA review procedures or on the status of a NEPA review, contact Carol M. Borgstrom, Director of NEPA policy and Compliance, GC-54, U.S. Department of Energy, 1000 Independence Avenue SW., Washington, DC 20585; telephone 202-586-4600 or toll free at 1-800-472-2756.

SUPPLEMENTARY INFORMATION: In November 2007, National Grid filed a ROW application with the BLM to construct and operate an EHV transmission line between Wyoming and delivery points in the Southwestern U.S. Subsequently, TransWest Express LLC (TransWest), a subsidiary of the Anschutz Corporation, acquired the Project from National Grid and filed an amended application to the BLM in September 2008. TransWest submitted amended applications to the BLM in 2008 and 2010 to reflect changes and refinements in the proposed Project.

In April 2010, BLM and Western entered into a Memorandum of Understanding (MOU) in which BLM and Western agreed to act as joint lead agencies for the EIS. The BLM's status as a joint lead agency is based on a potential Federal action to grant a utility ROW across BLM lands. Western's status as a joint lead agency is based on a potential Federal action to provide Federal funds for the Project.

In September 2011, Western and TransWest executed a Development Agreement in which Western and TransWest agreed to jointly fund the development phase of the Project, each responsible for 50 percent of the development costs, if Western decides to participate in the Project.

Cooperating agencies currently include Federal, State, Tribal and local agencies along all the alternative routes. The lead agencies recognize over 50 cooperating agencies supporting the Project EIS. Two regions of the NPS are now cooperators to the Project. On January 11, 2011, the BLM and Western published in the Federal Register (76 FR 379) their Notice of Intent to Prepare an EIS in compliance with NEPA and in accordance with the Federal Land Policy and Management Act of 1976, 43 CFR Subpart 1610, and BLM's ROW regulations at 43 CFR Part 2800.

To allow the public an opportunity to review the proposal and Project information, the BLM held public meetings from January through March 2011 in: Rawlins, Rock Springs, and Baggs, Wyoming; Craig, Rangely, and Grand Junction, Colorado; Castledale, Duchesne, Nephi, Delta, Richfield, Milford, Moab, Cedar City, St. George, Pine Valley, Central, and Enterprise, Utah; and Caliente, Overton, Henderson, and Las Vegas, Nevada. Issues and potential impacts to specific resources were identified during scoping and preparation of the DEIS.

The following issues were identified in the scoping process:

• Selection of corridor alternatives;

• Potential private and public land use conflicts;

• Impacts and mitigation to fish, wildlife, vegetation, special status species and habitat;

• Public health and safety;

• Impacts to areas with Special Management designations;

• Cumulative impacts;

• Socioeconomic impacts; and

• Noxious weed control and reclamation.

In response to scoping comments, TransWest made short segment adjustments in its Proposed Action in southern Wyoming and central Utah. Through the DEIS impact analysis process, and discussions with cooperating agencies, approximately 805 miles were removed from further consideration. Approximately 500 miles of new alternative transmission route segments were added in southern Wyoming and northwestern Colorado to address visual resource, wildlife, and historic trail concerns; in central Utah to address special management area concerns, wildlife concerns, effects on private lands, and visual resources; in southwestern Utah to address special management area concerns; and in southern Nevada to utilize an existing utility corridor. Some alternative corridors that were presented in scoping were removed from further analysis due to increased length of the line and because they had as much or greater environmental impact as alternatives already being considered.

In addition to the proposed action, the DEIS considers a No Action alternative. For this EIS, the No Action alternative means that the ROW application for the TransWest Project would be denied by the BLM and Western would not participate in the Project. The DEIS includes a discussion of two system design options. The first design option would be to construct and operate a DC transmission line from Wyoming to IPP in Millard County, Utah, and then construct an AC transmission line from IPP to the Marketplace Hub, south of Las Vegas, Nevada. The transmission line ROW requirements would be similar to the APA, except that an AC/DC converter station and ground electrode system would not be required at the southern terminus and a new AC converter station would be added. The second design option is a phased construction alternative. The first phase would consist of constructing the 600 kV DC transmission line from Wyoming to IPP, and then utilizing the existing transmission system from IPP to southern California. The second phase would consist of converting the AC transmission line to DC service between Wyoming and IPP, constructing the DC transmission line between IPP and the Marketplace Hub, constructing the northern and southern AC/DC converter stations, and installing the ground electrode stations. The AC substations would be decommissioned.

The BLM, in coordination with the USFS, other Federal, State, and local governments and agencies, developed the APA through a comparative evaluation of routing opportunities and constraints and the relative potential impacts among the various alternative segments. The alternative segments were subdivided into four geographic regions (Southern Wyoming and Northwestern Colorado; Northwestern Colorado, Eastern and Central Utah; Central and Southwestern Utah, Southern Nevada; Southern Nevada-Las Vegas metropolitan area).

The various alternative segments within regions were compared with each other in accordance with standard criteria. The primary criteria used to select the APA: (1) Maximize the use of designated utility corridors; (2) minimize requirements to amend resource plans; (3) avoid and minimize resource impacts regulated by law (for example, the Endangered Species Act); (4) avoid and minimize proximity to private residences and residential areas; (5) avoid and minimize resource impacts to reduce the magnitude and duration of adverse (residual) impacts; (6) minimize the use of private lands; and (7) minimize transmission system construction, operation and maintenance expense. The process for identifying the DEIS APA began at the local level, through draft document reviews by Federal and State resource specialists, and other cooperating agency staff. The BLM State Directors and the USFS Regional Forester contributed to the process. The APA represents an effort to balance land ownership, land management objectives, and resource effects among the large number of jurisdictions to be crossed by the Project. The APA is a recommendation derived from currently available information, and is not a decision. The BLM and Western are inviting DEIS reviewers to offer comments on the APA, as well as the other route and facility alternatives presented in the document.

The DEIS analyzes the potential environmental consequences of granting a ROW to TransWest to construct a transmission line from Sinclair, Wyoming, to its terminus at the Marketplace Hub south of Las Vegas, Nevada. The approximately 760-mile APA is discussed below, by region.

Region I (Southern Wyoming, Northwestern Colorado). The APA transmission line route would extend approximately 170 miles from the vicinity of Sinclair, Carbon County, Wyoming, to the vicinity of U.S. Highway 40 southwest of Maybell in western Moffat County, Colorado. The major environmental and social considerations for recommending this route include: limiting impacts to the Cherokee Trail in southern Wyoming, reducing visual impacts to motorists on Wyoming Highway 789, Colorado Highway 13, and backcountry recreation areas; avoiding agricultural and residential lands near Baggs and the Little Snake River Valley; avoiding or minimizing impacts to Dinosaur National Monument; and responding to local government concerns. Three additional route alternatives were evaluated in this region.

Region II (Northwestern Colorado, Eastern Utah, Central Utah). The APA transmission line route would extend approximately 270 miles from the vicinity of the eastern Utah border near Vernal to the vicinity of the IPP near Delta, Millard County, Utah. The major environmental and social considerations for recommending this route include: avoiding agricultural lands and residential areas in the vicinity of Vernal, Roosevelt, and Duchesne; avoiding or minimizing impacts to Inventoried Roadless Areas on National Forest Lands; Areas of Critical Environmental Concern on BLM lands; high density cultural resource areas; the Old Spanish Trail; Dinosaur National Monument, and sage-grouse habitat. Five additional route alternatives were evaluated in this region.

Region III (Central Utah, Southwest Utah, Southern Nevada). The APA transmission line route would extend approximately 285 miles from the vicinity of the IPP, Millard County, Utah, to the vicinity of Apex on Interstate 15, northeast of Las Vegas, Nevada. The major environmental and social considerations for recommending this route include: locating transmission facilities in existing utility corridors; avoiding or minimizing impacts to: military training and operations areas, Inventoried Roadless Areas (Dixie National Forest); designated historic sites (Mountain Meadows Massacre Site in Utah); the Old Spanish Trail; Areas of Critical Environmental Concern; and desert tortoise and sage-grouse habitat. Three additional route alternatives were evaluated in this region.

Region IV (Southern Nevada—Apex to the Marketplace Hub. The APA transmission line route would extend approximately 40 miles from Apex on Interstate 15 to the Marketplace Hub in the Eldorado Valley, southeast of Las Vegas. The major environmental and social considerations for recommending this route include: locating Project transmission line facilities within existing transmission line corridors in Las Vegas Valley densely populated areas; minimizing impacts to, or avoiding Lake Mead Recreation Area; residential areas in and near Boulder City. Two additional route alternatives were evaluated in this region.

The BLM, Western and cooperating agencies worked together to develop routes that would conform to existing Federal land use plans. However, this objective was not reached for a number of the alternative routes analyzed in the DEIS. Plan amendments that would be necessary to implement each of the evaluated alternatives were identified by affected agencies and analyzed in Chapter 4 of the DEIS. The specific land use plan amendments that are actually needed will depend upon which route is selected in the agencies' ROD if the BLM makes a decision to approve the ROW application. In the Final EIS, the BLM and Western will identify the APA, and BLM will identify the requisite proposed plan amendments necessary to implement that alternative. Each of the proposed BLM plan amendments would: (1) Expand an existing utility corridor; (2) create a new utility corridor while allowing for exceptions to other resource stipulations if avoidance measures or impact minimization are not feasible within the designated corridor; or (3) create a one-time exception through a ROW exclusion area. Depending on the route alternative, potential plan amendments include the following:

• Region I. One or two plan amendments would be required. The BLM Rawlins and Little Snake Field Office plans may be affected.

• Region II. One or up to four plan amendments would be required. The BLM White River, Vernal, Price, and Salt Lake Field Offices, and the Fishlake National Forest plans may be affected.

• Region III. None or one plan amendment would be required. The BLM Caliente Field Office plan may be affected.

• Region IV. None or one plan amendment would be required. The BLM Las Vegas Field Office plan may be affected.

The APA identified in the DEIS would involve five plan amendments across the four regions: the BLM Rawlins, Little Snake, Vernal, Salt Lake, and Las Vegas Field Offices; no amendments for Forest Plans are identified for the APA. Other BLM or USFS management plans could be amended depending upon the specifics of the route that is selected in the ROD if the BLM makes a decision to approve the ROW application. Proposed amendments to plans that are potentially affected by the various alternatives are identified and analyzed in the DEIS.

Copies of the DEIS are available for public inspection during normal business hours at the following locations:

• BLM, Wyoming State Office, Public Room, 5353 Yellowstone Road, Cheyenne, Wyoming 82009;

• BLM, Rawlins Field Office, 1300 North Third Street, Rawlins, Wyoming 82301;

• BLM, Rock Springs Field Office, 280 Highway 191 North, Rock Springs, Wyoming 82901;

• BLM, Colorado State Office, Public Reading Room, 2850 Youngfield Street, Lakewood, Colorado 80215-7093;

• BLM, Little Snake Field Office, 455 Emerson Street, Craig, Colorado 81625;

• BLM, White River Field Office, 220 East Market Street, Meeker, Colorado 81641;

• BLM, Grand Junction Office, 2815 H Road, Grand Junction, Colorado 81506;

• BLM, Utah State Office, Public Reading Room, 440 West 200 South, Suite 500, Salt Lake City, Utah 84101-1345;

• BLM, Cedar City Field Office, 176 East DL Sargent Drive, Cedar City, Utah 84721;

• BLM, Fillmore Field Office, 95 East 500 North, Fillmore, Utah 84631;

• BLM, Moab Field Office, 92 East Dogwood, Moab, Utah 84532;

• BLM, Price Field Office, 125 South 600 West, Price, Utah 84501;

• BLM, Richfield Field Office, 150 East 900 North, Richfield, Utah 84701;

• BLM, St. George Field Office, 345 East Riverside Drive, St. George, Utah 84790;

• BLM, Vernal Field Office, 170 South 500 East, Vernal, Utah 84078;

• BLM, Nevada State Office, Public Reading Room, 1340 Financial Blvd., Reno Nevada 89502;

• BLM, Egan Field Office, 702 North Industrial Way, Ely, Nevada 89301;

• BLM, Caliente Field Office, U.S. Highway 93, Building #1, Caliente, Nevada 89008;

• BLM, Las Vegas Field Office, 4701 North Torrey Pines Drive, Las Vegas, Nevada 89130; and

• USFS (Lead Forest Office) Dixie National Forest, 1789 North Wedgewood Lane, Cedar City, Utah 84721.

The BLM will utilize and coordinate the NEPA comment process to satisfy the public involvement process for Section 106 of the National Historic Preservation Act (16 U.S.C. 470f), as provided for in 36 CFR 800.2(d)(3). Ongoing consultations with Native American Tribes will continue in accordance with policy, and Tribal concerns, including impacts on Indian trust assets, will be given due consideration. Federal, State, and local agencies, along with other stakeholders that may be interested or affected by the BLM's decision on this Project, are invited to participate.

Dated: May 31, 2013.
Mark A. Gabriel,
Administrator, Western Area Power Administration.
Dated: June 3, 2013.
Donald A. Simpson,
BLM Wyoming State Director.

[FR Doc. 2013-16009 Filed 7-2-13; 8:45 am]

BILLING CODE 4310-22-P